DEPARTMENT OF ENERGY

Bonneville Power Administration

Arlington Wind Interconnection Project

AGENCY: Bonneville Power Administration (BPA), Department of Energy (DOE).

ACTION: Notice of availability of Record of Decision (ROD).

SUMMARY: This notice announces the availability of the ROD to offer contract terms to interconnect up to 200 megawatts of wind generation from the Columbia Energy Partners' proposed Arlington Wind Project into the Federal Columbia River Transmission System. The wind project will be interconnected at the proposed BPA Jones Canyon Switching Station. BPA's McNary-Santiam #2 230-kilovolt transmission line will be looped through Jones Canyon Switching Station for the purpose of providing transmission access to the wind project. These proposed facilities will be located in Gilliam County, Oregon, about 3 miles southwest of Arlington, Oregon. The decision to offer terms to interconnect the Arlington Wind Project is consistent with and tiered to BPA's Business Plan Final Environmental Impact Statement (DOE/EIS-0183, June 1995) and the Business Plan ROD (August 1995).

ADDRESSES: Copies of this ROD and the Business Plan EIS and ROD may be obtained by calling BPA's toll-free document request line, 1-800-622-4520. The RODs and EIS are also available on our Web site, http://www.efw.bpa.gov.

FOR FURTHER INFORMATION, CONTACT: Donald L. Rose, Bonneville Power Administration—KEC-4, P.O. Box 3621, Portland, Oregon, 97208-3621; toll-free number 1-800-282-3713; fax number 503-230-5699; or e-mail dlrose@bpa.gov.

Issued in Portland, Oregon, on January 14, 2005.
Stephen J. Wright,
Administrator and Chief Executive Officer.

[FR Doc. 05-1387 Filed 1-25-05; 8:45 am]

BILLING CODE 6450-01-P